DEPARTMENT OF HEALTH AND HUMAN SERVICES

Administration for Community Living

Draft Government Wide Strategic Plan for FY 2017-2020

AGENCY: Administration for Community Living (ACL), National Institute on Disability, Rehabilitation, and Independent Living Research (NIDILRR), HHS.

ACTION: Notice and request for comments.

SUMMARY: The Workforce Innovation and Opportunity Act (WIOA) (Pub. L. 113-128) requires the Interagency Committee on Disability Research (ICDR) to develop a comprehensive government wide strategic plan. This notice invites the general public and other public agencies to comment on the Draft Government Wide Strategic Plan for FY 2017-2020. The plan can be viewed on the ICDR Web site at http://icdr.acl.gov/content/icdr-seeks-comments-draft-government-wide-strategic-plan.

DATES: Written comments must be received on the plan before October 26, 2016.

ADDRESSES: Comments may be sent to: Kristi Hill, Executive Director of the Interagency Committee on Disability Research and Deputy Director of the National Institute on Disability, Rehabilitation, and Independent Living Research, Administration on Community Living, U.S. Department of Health and Human Services, Mary E. Switzer Building, 330 C Street SW., Room 1304, Washington, DC 20201. Comments may also be submitted via fax to the attention of ICDR at 703-356-8314 or via email to ICDRinfo@neweditions.net. All responses to this notice will be summarized and posted on the ICDR Web site. All comments will be a matter of public record.

FOR FURTHER INFORMATION CONTACT: Requests for additional information or copies of this information collection should be directed to the ICDR at ICDRinfo@neweditions.net.

Dated: October 4, 2016.
John Tschida,
Director, National Institute on Disability, Rehabilitation, and Independent Living Research.

[FR Doc. 2016-24531 Filed 10-11-16; 8:45 am]

BILLING CODE 4154-01-P